DEPARTMENT OF COMMERCE

International Trade Administration

[A-549-820]

Notice of Amended Final Determination of Sales at Less Than Fair Value and Antidumping Duty Order: Prestressed Concrete Steel Wire Strand from Thailand

AGENCY: Import Administration, International Trade Administration, Department of Commerce.

ACTION: Notice of Amended Final Determination of Sales at Less Than Fair Value and Antidumping Duty Order.

EFFECTIVE DATE: January 28, 2004.

FOR FURTHER INFORMATION CONTACT: Carol Henninger or Constance Handley, at (202) 482-3003 or (202) 482-0631, respectively; AD/CVD Enforcement Group II, Office 5, Import Administration, Room 1870, International Trade Administration, U.S. Department of Commerce, 14th Street and Constitution Avenue, NW, Washington, DC 20230.

SUPPLEMENTARY INFORMATION:

Background

On December 8, 2003, the Department of Commerce (Department) published its final determination in the antidumping duty investigation of prestressed concrete steel wire strand (PC strand) from Thailand. See Final Determination of Sales at Less Than Fair Value and Negative Final Determination of Critical Circumstances: Prestressed Concrete Steel Wire Strand from Thailand, 68 FR 68348 (December 8, 2003) (Final Determination).

On January 21, 2004, the International Trade Commission (ITC) notified the Department of its final determination pursuant to section 735(b)(1)(A)(i) of the Tariff Act of 1930, as amended (the Act) that an industry in the United States is materially injured by reason of less-than-fair-value imports of subject merchandise from Thailand.

Scope Of The Order

For purposes of this order, PC strand is steel strand produced from wire of non-stainless, non-galvanized steel, which is suitable for use in prestressed concrete (both pre-tensioned and post-tensioned) applications. The product definition encompasses covered and uncovered strand and all types, grades, and diameters of PC strand.

The merchandise subject to this investigation and order is currently classifiable under subheadings 7312.10.3010 and 7312.10.3012 of the Harmonized Tariff Schedule of the United States (HTSUS). Although the HTSUS subheadings are provided for convenience and customs purposes, the written description of the merchandise under the order is dispositive.

Amended Final Determination

On December 8, 2003, in accordance with section 735(a) of the Act, the Department published its final determination that PC strand from Thailand is being, or is likely to be, sold in the United States at less than fair value. See Final Determination. The respondents, Siam Industrial Wire Co., Ltd. and its U.S. affiliate Cementhai SCT USA (collectively, SIW), filed timely allegations that the Department had made ministerial errors in its final determination. We have determined, in accordance with 19 CFR 351.224, that certain ministerial errors were made in the final determination pertaining to the calculation of the cost of production and the deduction of a credit memo. For a detailed discussion of the Department's analysis of the allegations of ministerial errors, see Memorandum from Carol Henninger, International Trade Compliance Analyst, to Holly A. Kuga, Acting Deputy Assistant Secretary, Group II, Re: Ministerial Error Allegations for Siam Industrial Wire Co., Ltd. and Cementhai SCT USA (December 30, 2003). Therefore, in accordance with 19 CFR 351.224(e), we are amending the final determination of the antidumping duty investigation of PC strand from Thailand to correct these ministerial errors.

The revised final weighted-average dumping margins are as follows:

Manufacturer/exporter | Original Weighted-Average Margin (Percent) | Amended Weighted-Average Margin Percent)
Siam Industrial Wire Co., Ltd. | 12.99 | 12.91
All Others | 12.99 | 12.91

Antidumping Duty Order

On January 21, 2004, in accordance with section 735(d) of the Act, the ITC notified the Department of its final determination that the industry in the United States producing PC strand is materially injured within the meaning of section 735(b)(1)(A)(i) of the Act by reason of imports of the subject merchandise from Thailand.

In accordance with section 736(a)(1) of the Act, the Department will direct U.S. Customs and Border Protection (CBP) to assess, upon further advice by the Department, antidumping duties equal to the amount by which the normal value of the merchandise exceeds the export price or constructed export price of the merchandise for all relevant entries of PC strand from Thailand. These antidumping duties will be assessed on (1) all unliquidated entries of PC strand from Thailand entered, or withdrawn from warehouse, for consumption on or after July 17, 2003, the date on which the Department published its notice of preliminary determination in the Federal Register,¹ and before January 13, 2004, the date on which the Department is required, pursuant to section 733(d) of the Act, to terminate the suspension of liquidation; and (2) on all subject merchandise entered, or withdrawn from warehouse, for consumption on or after the date of publication of the ITC's notice of final determination in the Federal Register. Entries of PC strand from Thailand made between January 13, 2004, and the day preceding the date of publication of the ITC's notice of final determination in the Federal Register are not liable for the assessment of antidumping duties due to the Department's termination, effective January 13, 2004, of the suspension of liquidation.

¹ See Notice of Preliminary Determination of Sales at Less Than Fair Value, Postponement of Final Determination, and Negative Preliminary Determination of Critical Circumstances: Prestressed Concrete Steel Wire Strand from Thailand, 68 FR 42373 (July 17, 2003).

On or after the date of publication of the ITC's notice of final determination in the Federal Register, CBP must require, at the same time as importers would normally deposit estimated duties on this merchandise, a cash deposit equal to the estimated weighted-average dumping margins as noted above.

This notice constitutes the antidumping duty order with respect to PC strand from Thailand, pursuant to section 736(a) of the Act. Interested parties may contact the Department's Central Records Unit, Room B-099 of the Main Commerce Building, for copies of an updated list of antidumping duty orders currently in effect.

This order is issued and published in accordance with section 736(a) of Act and 19 CFR 351.211.

Dated: January 22, 2004.
James J. Jochum,
Assistant Secretary for Import Administration.

[FR Doc. 04-1827 Filed 1-27-04; 8:45 am]

BILLING CODE 3510-DS-S